NUCLEAR REGULATORY COMMISSION

Sunshine Act Meeting

AGENCY HOLDING THE MEETING: Nuclear Regulatory Commission.

DATE: Weeks of November 6, 13, 20, 27, December 4, and 11, 2000.

PLACE: Commissioners' Conference Room, 11555 Rockville Pike, Rockville, Maryland.

STATUS: Public and Closed.

MATTERS TO BE CONSIDERED:

Week of November 6

There are no meetings scheduled for the Week of November 6.

Week of November 13—Tentative

Wednesday, November 15, 2000

10:00 a.m. Briefing by the Executive Branch (Closed-Ex. 1)

Friday, November 17

9:25 a.m. Affirmation Session (Public Meeting) (If needed)

9:30 a.m. Briefing on Risk-Informed Regulation Implementation Plan (Public Meeting) (Contact: Tom King, 301-415-5790)

This meeting will be webcast live at the Web address- www.nrc.gov/live.html

Week of November 20—Tentative

There are no meetings scheduled for the Week of November 20.

Week of November 27—Tentative

Monday, November 27, 2000

9:00 a.m. (Briefing by DOE on Plutonium Disposition Program and MOX Fuel Fabrication Facility Licensing (Public Meeting) (Contact: Drew Persinko, 301-415-6522)

This meeting will be webcast live at the Web address— www.nrc.gov/live.html

Week of December 4—Tentative

Monday, December 4

1:55 p.m. Affirmation Session (Public Meeting) (If needed)

2:00 p.m. Briefing on License Renewal Generic Aging Lessons Learned (GALL) Report, Standard Review Plan (SRP), and Regulatory Guide (Public Meeting) (contact: Chris Grimes, 301-415-1183)

This meeting will be webcast live at the Web address— www.nrc.gov/live.html

Week of December 11—Tentative

There are no meetings scheduled for the Week of December 11.

The Schedule for Commission Meetings is subject to change on short notice. To verify the status of meetings call (recording)—(301) 415-1292. Contact person for more information: Bill Hill (301) 415-1661.

The NRC Commission Meeting Schedule can be found on the Internet at: http://www.nrc.gov/SECY/smj/schedule.htm

This notice is distributed by mail to several hundred subscribers; if you no longer wish to receive it, or would like to be added to it, please contact the Office of the Secretary, Attn: Operations Branch, Washington, D.C. 20555 (301-415-1661). In addition, distribution of this meeting notice over the Internet system is available. If you are interested in receiving this Commission meeting schedule electronically, please send an electronic message to wmh@nrc.gov or dkw@nrc.gov.

Dated: November 3, 2000.
William M. Hill, Jr.,
SECY Tracking Officer, Office of the Secretary.

[FR Doc. 00-28669 Filed 11-3-00; 8:45 am]

BILLING CODE 7590-01-M